DEPARTMENT OF LABOR

Employment and Training Administration

[TA-W-74,347]

NRC Corporation, USPS Help Desk of Customer Care Center, Including On-Site Leased Workers of Volt Consulting, West Columbia, SC; Notice of Affirmative Determination Regarding Application for Reconsideration

By application dated September 16, 2010, a worker requested administrative reconsideration of the negative determination regarding workers' eligibility to apply for Trade Adjustment Assistance (TAA) applicable to workers and former workers of the subject firm. The determination was issued on August 16, 2010 and the Notice of determination was published in the Federal Register on September 3, 2010 (75 FR 54187). The workers supply information technology support services and are not separately identifiable by service supplied.

The negative determination was based on the findings that the worker separations, or threat of separation, were not related to a shift in information technology support service abroad or increased imports of like or directly competitive services. The investigation also revealed that subject firm did not supply a service to a firm that employed a worker group eligible to apply for TAA and that directly used the services in the production of an article or supply of service that was basis for the TAA certification.

The worker, in the request for reconsideration, disputes the Department's findings that the subject firm did not shift to India the supply of like or directly competitive services, and provides employment listings for various information technology support service positions at the subject firm's India facility as support documentation.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of October 2010.
Del Min Amy Chen,
Certifying Officer, Office of Trade Adjustment Assistance.

[FR Doc. 2010-26906 Filed 10-22-10; 8:45 am]

BILLING CODE 4510-FN-P